DEPARTMENT OF ENERGY

Advanced Scientific Computing Advisory Committee

AGENCY: Office of Science, Department of Energy.

ACTION: Notice of Open Teleconference.

SUMMARY: This notice announces an open meeting of the Advanced Scientific Computing Advisory Committee (ASCAC). This meeting replaces the cancelled ASCAC meeting that was to be held in Washington, DC on October 8-9, 2013, due to the government shutdown. The Federal Advisory Committee Act (Pub. L. 92-463, 86 Stat. 770) requires that public notice of these meetings be announced in the Federal Register.

DATES: Monday, November 18, 2013; 1:00 p.m. to 5:00 p.m. (Mountain Time)

ADDRESSES: The meeting is open to the public. To access the call:

1. Dial Toll-Free Number: 866-740-1260 (U.S. & Canada)

2. International participants dial: http://www.readytalk.com/intl

3. Enter access code 8083012, followed by “#”

To ensure we have sufficient access lines for the public, we request that members of the public notify the DFO, Christine Chalk, that you intend to call-into the meeting via email at: christine.chalk@science.doe.gov.

FOR FURTHER INFORMATION CONTACT: Melea Baker, Office of Advanced Scientific Computing Research; SC-21/Germantown Building; U. S. Department of Energy; 1000 Independence Avenue SW., Washington, DC 20585-1290; Telephone (301) 903-7486, (Email: Melea.Baker@science.doe.gov).

SUPPLEMENTARY INFORMATION:

Purpose of the Meeting: The purpose of this meeting is to provide advice and guidance on a continuing basis to the Department of Energy on scientific priorities within the field of advanced scientific computing research.

Tentative Agenda Topics:

• View from Germantown

• Update on Exascale

• Applied Math Committee of Visitors

Public Participation: The teleconference meeting is open to the public.

If you would like to file a written statement with the Committee, you may do so either before or after the meeting. If you would like to make oral statements regarding any of the items on the agenda, you should contact Melea Baker via FAX at 301-903-4846 or via email (Melea.Baker@science.doe.gov). You must make your request for an oral statement at least 5 business days prior to the meeting. Reasonable provision will be made to include the scheduled oral statements on the agenda. The Chairperson of the Committee will conduct the meeting to facilitate the orderly conduct of business. Public comment will follow the 10-minute rule.

Minutes: The minutes of this meeting will be available for public review and copying within 45 days by contacting Ms. Melea Baker at the address listed above.

Issued in Washington, DC, on October 23, 2013.
LaTanya R. Butler,
Deputy Committee Management Officer.

[FR Doc. 2013-25811 Filed 10-29-13; 8:45 am]

BILLING CODE 6450-01-P